SURFACE TRANSPORTATION BOARD

[Docket No. FD 36181]

Kasgro Rail Corp.—Lease and Operation Exemption—KJ Rail Logistics LLC

Kasgro Rail Corp. (Kasgro), a Class III rail carrier, has filed a verified notice of exemption under 49 CFR 1150.41 to lease from KJ Rail Logistics LLC (KJR), a noncarrier, and operate approximately 1.6 miles of rail line located in LaPorte County, Ind., between milepost 0.0 and milepost 1.6 (the Line). The Line connects with CSX Transportation, Inc., at milepost 0.0.

According to Kasgro, it has entered into a lease agreement with KJR for the right to provide common carrier service over the Line and will contract with KJR to provide rail service on the property. Kasgro states that it currently leases and operates another rail line approximately 3.5 miles in length in Lawrence County, PA.¹

¹ See Kasgro Rail Corp.—Lease & Operation Exemption—EASX Corp., FD 33882 (STB served June 22, 2000).

Kasgro certifies that its projected annual revenues as a result of the transaction will not exceed $5 million or those that would qualify it as a Class III rail carrier. Kasgro further states that the proposed transaction does not contain any provision that may limit future interchange with a third-party connecting carrier.

The transaction may be consummated on or after April 28, 2018, the effective date of the exemption (30 days after the exemption was filed).

If the verified notice contains false or misleading information, the exemption is void ab initio. Petitions to revoke the exemption under 49 U.S.C. 10502(d) may be filed at any time. The filing of a petition to revoke will not automatically stay the effectiveness of the exemption. Petitions for stay must be filed no later than April 20, 2018 (at least seven days before the exemption becomes effective).

An original and ten copies of all pleadings, referring to Docket No. FD 36181, must be filed with the Surface Transportation Board, 395 E Street SW, Washington, DC 20423-0001. In addition, a copy of each pleading must be served on Kasgro's representative, Jeffrey O. Moreno, Thompson Hine LLP, 1919 M Street NW, Suite 700, Washington, DC 20036.

According to Kasgro, this action is categorically excluded from environmental review under 49 CFR 1105.6(c) and from historic reporting under 49 CFR 1105.8(b).

Board decisions and notices are available on our website at “WWW.STB.GOV.”

Decided: April 10, 2018. By the Board, Scott M. Zimmerman, Acting Director, Office of Proceedings.
Jeffrey Herzig,
Clearance Clerk.

[FR Doc. 2018-07760 Filed 4-12-18; 8:45 am]

BILLING CODE 4915-01-P